DEPARTMENT OF TRANSPORTATION

Surface Transportation Board

[STB Finance Docket No. 34639]

Calumet Transload and Railroad, LLC—Lease and Operation Exemption—Rail Line of Calumet Transfer, LLC

Calumet Transload and Railroad, LLC (CTRR), a noncarrier, has filed a verified notice of exemption under 49 CFR 1150.31 to lease, from Calumet Transfer, LLC (CT), also a noncarrier, and operate a 1-mile line of railroad located on property owned by CT abutting the Calumet River in Chicago, IL.

CTRR certifies that its projected revenues as a result of this transaction will not exceed those that would qualify it as a Class III rail carrier. The transaction was scheduled to be consummated on January 1, 2005.

If the verified notice contains false or misleading information, the exemption is void ab initio. Petitions to revoke the exemption under 49 U.S.C. 10502(d) may be filed at any time. The filing of a petition to revoke will not automatically stay the transaction.

An original and 10 copies of all pleadings, referring to STB Finance Docket No. 34639, must be filed with the Surface Transportation Board, 1925 K Street, NW., Washington, DC 20423-0001. In addition, a copy of each pleading must be served on David C. Dillon, Dillon & Nash, Ltd., 111 West Washington Street, Suite 719, Chicago, IL 60602.

Board decisions and notices are available on our Web site at “www.stb.dot.gov.”

Decided: January 12, 2005.
By the Board, David M. Konschnik, Director, Office of Proceedings.
Vernon A. Williams,
Secretary.

[FR Doc. 05-1210 Filed 1-19-05; 8:45 am]

BILLING CODE 4915-01-P